NUCLEAR REGULATORY COMMISSION

Notice of a Public Meeting on Assessing Future Regulatory Research Needs

AGENCY: U.S. Nuclear Regulatory Commission.

ACTION: Notice of public meeting.

SUMMARY: The U. S. Nuclear Regulatory Commission (NRC) will hold a meeting of nuclear experts from the government, the nuclear industry, academia, and the Public on August 16-17, 2000. The purpose of the meeting is to seek stakeholder input on the role and future direction of nuclear regulatory research. The meeting is open to the public and all interested parties may attend.

DATES: The meeting will be held from 8:00 AM to 5:00 PM on August 16 and 17, 2000 at the Marriott Residence Inn located at 7335 Wisconsin Avenue in Bethesda, Maryland 20804. The telephone number of the hotel is 301-718-0200.

FOR FURTHER INFORMATION CONTACT: Questions with respect to this meeting should be referred to James W. Johnson, Office of Nuclear Regulatory Research, U.S. Nuclear Regulatory Commission at (301) 415-6293; fax 301-415-5153; E-mail jwj@nrc.gov or Joseph J. Mate, at (301) 415-6202; fax 301-415-5153; E-mail jjm@nrc.gov.

SUPPLEMENTARY INFORMATION: Parking is available in the hotel for a modest cost. Additional parking in Bethesda is somewhat limited. The hotel can also be reached by Metro.

The hotel is located one block south of the Bethesda Metro stop on the Red Line and is on the opposite side of the street from the metro station. Seating for the public is limited and therefore will be on a first-come, first serve basis.

Dated at Rockville, Maryland, this 17th day of July 2000.
For the Nuclear Regulatory Commission.
Ashok C. Thadani,
Director, Office of Nuclear Regulatory Research, U.S. Nuclear Regulatory Commission.

[FR Doc. 00-18539 Filed 7-20-00; 8:45 am]

BILLING CODE 7590-01-P